DEPARTMENT OF AGRICULTURE

Agricultural Marketing Service

[AMS-CN-10-0042; CN-10-004]

Tobacco Inspection and Grading Services: Notice of Request for an Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection in support of the Fair and Equitable Tobacco Reform Act of 2004 (U.S.C. Chapter 518), the Rural Development, Food and Drug Administrative, and Related Agencies Appropriations Act for 2002 (Appropriations Act), and the Tobacco Inspection Act and Regulations Governing the Tobacco Standards.

DATES: Comments received by August 16, 2010 will be considered.

ADDITIONAL INFORMATION OR COMMENTS: Interested persons are invited to submit written comments concerning this proposal to Shethir Riva, Chief, Research and Promotion, Cotton and Tobacco Programs, Agricultural Marketing Service, USDA, 1400 Independence Ave., SW., Room 2637-S, Washington, DC 20250-0224. Comments should be submitted in triplicate. Comments may also be submitted electronically through http://www.regulations.gov. All comments should reference the docket number and page number of this issue of the Federal Register. All comments received will be made available for public inspection at http://www.regulations.gov or at the Cotton and Tobacco Programs, AMS, USDA, 1400 Independence Ave., SW., Room 2637-S, Washington, DC 20250 during regular business hours.

FOR FURTHER INFORMATION CONTACT: Shethir Riva, Chief, Research and Promotion, Cotton and Tobacco Programs, Agricultural Marketing Service, USDA, 1400 Independence Ave., SW., Room 2637-S, Washington DC 20250-0224, telephone (202) 720-3193, facsimile (202) 690-1718, or e-mail at Shethir.riva@ams.usda.gov.

SUPPLEMENTARY INFORMATION: Title: Reporting and Recording Requirements for 7 CFR part 29.

OMB Number: 0581-0056.

Expiration Date of Approval: December 30, 2010.

Type of Request: Extension and revision of a currently approved information collection.

Abstract: The Tobacco Inspection Act (7 U.S.C. 511-511s) requires that all tobacco sold at designated auction markets in the U.S. be inspected and graded. The Appropriations Act (7 U.S.C. 511s note) requires that all tobacco eligible for price support in the U.S. be inspected and graded. The Fair and Equitable Tobacco Reform Act of 2004 (7 U.S.C. 518-519a) eliminated price supports and marketing quotas for all tobacco beginning with the 2005 crop year. Mandatory inspection and grading of domestic and imported tobacco was eliminated as well as the mandatory pesticide testing of imported tobacco and the tobacco market news program. The Tobacco Inspection Act also provides for interested parties to request inspection, pesticide testing, and grading services on a permissive basis. The information collection requirements authorized for the programs under the Tobacco Inspection Act and the Appropriations Act include: application for inspection of tobacco, application and other information used in the approval of new auction markets or the extension of services to designated tobacco markets, and the information required to be provided in connection with auction and nonauction sales.

Estimate of Burden: Public reporting burden for this collection of information is estimated to average 1.60 hours per response.

Respondents: Primarily tobacco companies, tobacco manufacturers, import inspectors, and small businesses or organizations.

Estimated Number of Respondents: 50.

Estimated Number of Responses per Respondent: 48.

Estimated Number of Responses: 2415.

Estimated Total Annual Burden on Respondents: 3851.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments also may be sent to Shethir Riva, Chief, Research and Promotion, Cotton and Tobacco Programs, Agricultural Marketing Service, USDA, 1400 Independence Ave., SW., Washington DC 20250-0224. All comments received will be available for public inspection during regular business hours at the same address or through http://www.regulations.gov.

All responses to this notice will be summarized and included in the request for OMB approval. All comments will become a matter of public record.

Dated: June 11, 2010.
David R. Shipman,
Acting Administrator, Agricultural Marketing Service.

[FR Doc. 2010-14571 Filed 6-16-10; 8:45 am]

BILLING CODE P